OFFICE OF SCIENCE AND TECHNOLOGY POLICY

Orbital Debris Research and Development Interagency Working Group Listening Sessions

AGENCY: Office of Science and Technology Policy (OSTP).

ACTION: Announcement of meetings.

SUMMARY: The White House Office of Science and Technology Policy (OSTP) is organizing a series of virtual listening sessions to hear about ideas, issues, and potential solutions related to the problem of orbital debris from members of the public who have an interest or stake in orbital debris research and development. Perspectives gathered during the virtual listening sessions will inform the National Science and Technology Council (NSTC) Orbital Debris Research and Development Interagency Working Group (ODRAD IWG) as it develops a government-wide orbital debris implementation plan, examining R&D activities as well as other considerations such as policy levers, international engagements, and other ideas outside of R&D solutions that may help build a cohesive implementation strategy. The implementation plan is a continuation of work done for the National Orbital Debris Research and Development Plan (January 2021), which was a response to Space Policy Directive—3 (June 2018), directing the United States to lead the management of traffic and mitigate the effects of debris in space.

DATES:

1. Orbital Debris Remediation: Thursday, January 13, 2022, 1:00 p.m. to 3:00 p.m. ET

2. Orbital Debris Mitigation: Thursday, January 20, 2022, 1:00 p.m. to 3:00 p.m. ET

Registration deadline:

1. Orbital Debris Remediation: Wednesday, January 12, 2022, 11:59 p.m. ET

2. Orbital Debris Mitigation: Wednesday, January 19, 2022, 11:59 p.m. ET

ADDRESSES: Register for a virtual listening session using the session-specific links below:

Debris Remediation: https://ida-org.zoomgov.com/meeting/register/vJIsc-uupzgiGLyz7dJnKBzd5TYtWSIvFEY

Debris Mitigation: https://ida-org.zoomgov.com/meeting/register/vJIsdu2pqDsrHtcrkQItFEkScORq00AoDA4

FOR FURTHER INFORMATION CONTACT: Ezinne Uzo-Okoro at OrbitalDebris@ostp.eop.gov or by calling 202-456-4444.

SUPPLEMENTARY INFORMATION: The Orbital Debris Interagency Working Group has commenced the development of an implementation plan to be released in 2022. Pursuant to 42 U.S.C. 6622, OSTP is soliciting public input through these virtual listening sessions to obtain recommendations from a wide range of stakeholders, including representatives from diverse industries, academia, other relevant organizations and institutions, and the general public. The public input provided in response to these virtual listening sessions will inform OSTP and NSTC as they work with Federal agencies and other stakeholders to develop an Orbital Debris implementation plan. This implementation plan builds on the Orbital Debris R&D plan published in January 2021.

Each listening session will be organized around a particular theme and audience, described below:

1. Session on Debris Remediation: Thursday, January 13, 2022, 1:00 p.m. to 3:00 p.m. ET

Debris remediation is the active or passive manipulation of debris objects to reduce or eliminate the risk they pose to operational space assets. This may include fully removing debris from orbit, moving debris from orbits that pose a high risk to operational spacecraft into lower-risk orbits, and finding ways to repurpose or recycle existing debris. Debris remediation activities could substantially reduce the risk of debris impact in key orbital regimes. R&D priorities include: Develop remediation and repurposing technologies and techniques for large-debris objects; Develop remediation technologies and techniques for small-debris objects; Develop models for risk and cost-benefit analyses. The target audience includes companies interested in developing debris remediation services as a line of business, any entity that has an interest in being a customer for debris remediation services, and researchers performing pre-competitive R&D that supports debris remediation capabilities.

Participants are encouraged to consider potential R&D, policy, regulatory, and international partnership actions when answering the following questions.

—What is the role of government, private sector, and academia?

—What can the Federal government do to incentivize the development of debris remediation capabilities in industry?

—What are the anticipated costs and development timelines for developing debris remediation services?

2. Session on Debris Mitigation: Thursday, January 20, 2022, 1:00 p.m. to 3:00 p.m. ET

Limiting the creation of new debris through deliberate spacecraft and launch vehicle design choices may be the most cost-effective approach to managing new debris creation in orbit. Debris mitigation activities limit the creation of debris in key orbital regimes. Design choices could include improving the reliability of critical spacecraft subsystems, such as power and propulsion, improving passivation techniques, selecting spacecraft materials that can withstand impacts, enhanced shielding, and developing cost-effective solutions to improve maneuverability and end-of-life safe modes. We invite ideas for U.S. government actions to mitigate debris creation from the public including expert stakeholders in academia and industry. Actions could focus on buying down the risk and cost to implement new technologies to limit the creation of new debris, or even on incentives for implementing proven technologies for debris mitigation. Participants are encouraged to consider potential R&D, policy, regulatory, and international partnership actions when answering the following questions:

—What is the role of government, private sector, and academia in developing debris mitigation solutions?

—What specific actions, R&D or policy, could the government take to limit the creation of new debris on-orbit?

—What actions to limit debris creation are well understood, but require satellite or launch vehicle owners/operators to be educated or incentivized to implement?

Speakers will have 2 to 3 minutes each to make a comment. As many speakers will be accommodated as the scheduled time allows.

Staff from the IDA Science and Technology Policy Institute will facilitate the meeting, which will be recorded for use by the Interagency Working Group. Participation in a listening session will imply consent to capture participant's names, voices, and likenesses. Anything said may be recorded and transcribed for use by the Interagency Working Group and publicly released and attributed to specific participants. Moderators will manage the discussion and order of remarks.

Individuals unable to attend the listening sessions or who would like to provide more detailed information may submit written comments to the Request for Comment (RFC) on the Orbital Debris Research and Development Plan that was published in the Federal Register [86 FR 61335, November 5, 2021].

Dated: December 14, 2021.
Stacy Murphy,
Operations Manager.

[FR Doc. 2021-27331 Filed 12-16-21; 8:45 am]

BILLING CODE 3271-F1-P